DEPARTMENT OF HOMELAND SECURITY

Coast Guard

33 CFR Part 117

[CGD01-04-020]

Drawbridge Operation Regulations: Hackensack River, NJ

AGENCY: Coast Guard, DHS.

ACTION: Notice of temporary deviation from regulations.

SUMMARY: The Commander, First Coast Guard District, has issued a temporary deviation from the drawbridge operation regulations for the Newburyport US1 Bridge, mile 3.4, across the Merrimack River between Newburyport and Salisbury, Massachusetts. Under this temporary deviation the bridge need operate only one bascule leaf for bridge openings from March 15, 2004 through April 2, 2004. The southeast bascule leaf may remain in the closed position to navigation. This temporary deviation is necessary to facilitate emergency structural repairs at the bridge.

DATES: This deviation is effective from March 15, 2004 through April 2, 2004.

FOR FURTHER INFORMATION CONTACT: John McDonald, Project Officer, First Coast Guard District, at (617) 223-8364.

SUPPLEMENTARY INFORMATION: The Newburyport US1 Bridge has a vertical clearance in the closed position of 35 feet at mean high water and 42 feet at mean low water. The existing drawbridge operation regulations are listed at 33 CFR 117.605(a).

The bridge owner, Massachusetts Highway Department (MHD), requested a temporary deviation from the drawbridge operation regulations to facilitate emergency structural maintenance, the replacement of the concrete filled grid deck on the southeast bascule leaf, at the bridge. The southeast bascule leaf must remain in the closed position to perform these repairs. The north bascule leaf will open fully for the passage of vessel traffic during these repairs.

The Newburyport US1 Bridge has not received any requests to open during the month of March for the past seven years.

The bridge owner did not provide the required thirty-day notice to the Coast Guard for this deviation; however, this deviation was approved because the repairs are necessary repairs that must be performed with undue delay in order to assure the continued safe reliable operation of the bridge.

Under this temporary deviation the Newburyport US1 Bridge may keep the southeast bascule leaf in the closed position from March 15, 2004 through April 2, 2004. The north bascule leaf will continue to open for the passage of vessel traffic according to the existing drawbridge operation regulations which require a one-hour advance notice by calling the number posted at the bridge.

This deviation from the operating regulations is authorized under 33 CFR 117.35(b), and will be performed with all due speed in order to return the bridge to normal operation as soon as possible.

Dated: March 5, 2004.
Vivien S. Crea,
Rear Admiral, U.S. Coast Guard, Commander, First Coast Guard District.

[FR Doc. 04-6032 Filed 3-16-04; 8:45 am]

BILLING CODE 4910-15-P